DEPARTMENT OF VETERANS AFFAIRS

Advisory Committee on Prosthetics and Special Disabilities Programs; Notice of Meeting

The Department of Veterans Affairs (VA) gives notice under Public Law 92-463 (Federal Advisory Committee Act) that a meeting of the Advisory Committee on Prosthetics and Special Disabilities Programs will be held April 11-12, 2006, Room 230, VA Central Office, 810 Vermont Avenue, NW., Washington, DC. The meeting will convene at 8:30 a.m. on both days. On April 11 it will adjourn at 4:30 p.m. and on April 12 at noon. The meeting is open to the public.

The purpose of the Committee is to advise the Secretary of Veterans Affairs on VA's prosthetic programs designed to provide state-of-the-art prosthetics and the associated rehabilitation research, development, and evaluation of such technology. The Committee also provides advice to the Secretary on special disability programs which are defined as any program administered by the Secretary to serve veterans with spinal cord injury, blindness or vision impairment, loss or loss of the use of extremities, deafness or hearing impairment, or other serious incapacities in terms of daily life functions.

On the morning of April 11, the Committee will receive briefings by the Chief Consultant, Rehabilitation Strategic Healthcare Group, and Director, Rehabilitation Research and Development. In the afternoon, briefings from the Directors of Seamless Transition Office, Vocational Rehabilitation and Employment Service, and Chief Prosthetics and Clinical Logistics Officer will be presented. On the morning of April 12, the Committee will be briefed by the Chief Consultant, Spinal Cord Injury and Disorders Service.

No time will be allocated for receiving oral presentations from the public. However, members of the public may direct questions or submit written statements for review by the Committee in advance of the meeting to Ms. Cynthia Wade, Designated Federal Officer, Veterans Health Administration, Patient Care Services, Rehabilitation Strategic Healthcare Group (117), Department of Veterans Affairs, 810 Vermont Avenue, NW., Washington, DC 20420. Any member of the public wishing to attend the meeting should contact Ms. Wade at (202) 273-8485.

Dated: March 10, 2006.
By Direction of the Secretary.
E. Philip Riggin,
Committee Management Officer.

[FR Doc. 06-2529 Filed 3-15-06; 8:45 am]

BILLING CODE 8320-01-M